ENVIRONMENTAL PROTECTION AGENCY

40 CFR Parts 52 and 81

[Docket OR-84-7299b; FRL-6858-2]

Approval and Promulgation of State Implementation Plans; Oregon

AGENCY: Environmental Protection Agency (EPA).

ACTION: Proposed rule.

SUMMARY: Environmental Protection Agency (EPA) proposes to approve the revisions to Oregon's State Implementation Plan which were submitted on November 10, 1999. These revisions consist of: Approval of the 1993 carbon monoxide periodic emissions inventory for Grants Pass, Oregon; approval of the Grants Pass carbon monoxide maintenance plan; and redesignation of Grants Pass from nonattainment to attainment for carbon monoxide.

In the Final Rules section of this Federal Register, the EPA is approving the State's SIP submittal as a direct final rule without prior proposal because the Agency views this as a noncontroversial submittal amendment and anticipates no adverse comments. A detailed rationale for the approval is set forth in the direct final rule. If no adverse comments are received in response to this action, no further activity is contemplated.

If the EPA receives adverse comments, the direct final rule will be withdrawn and all public comments received will be addressed in a subsequent final rule based on this proposed rule. The EPA will not institute a second comment period. Any parties interested in commenting on this action should do so at this time.

DATES: Written comments must be received in writing by October 2, 2000.

ADDRESSES: Written comments should be addressed to Debra Suzuki, Office of Air Quality (OAQ-107), at the EPA Regional Office listed below.

Copies of the State's request and other information supporting this action are available for inspection during normal business hours at the following locations: EPA, Office of Air Quality (OAQ-107), 1200 Sixth Avenue, Seattle, Washington 98101, and State of Oregon Department of Environmental Quality, 811 SW Sixth Avenue, Portland, Oregon 97204-1390.

FOR FURTHER INFORMATION CONTACT: Debra Suzuki, Office of Air Quality (OAQ-107), EPA, Seattle, Washington, (206) 553-0985.

SUPPLEMENTARY INFORMATION: For additional information, see the Direct Final rule which is located in the Rules section of this Federal Register.

Dated: August 17, 2000.
Ronald A. Kreizenbeck,
Acting Regional Administrator, Region 10.

[FR Doc. 00-22055 Filed 8-30-00; 8:45 am]

BILLING CODE 6560-50-P